DEPARTMENT OF HEALTH AND HUMAN SERVICES

Centers for Medicare & Medicaid Services

[Document Identifier: CMS-855S]

Agency Information Collection Activities: Proposed Collection; Extension of Comment Period

AGENCY: Centers for Medicare & Medicaid Services (CMS), HHS.

ACTION: Agency information collection activities: Proposed collection; comment request; extension of comment period.

SUMMARY: This notice extends the comment period for a 60-day notice request for proposed information collection request associated with the notice [Document Identifier: CMS-855S] entitled “Medicare Enrollment Application: Durable Medical Equipment, Prosthetics, Orthotics, and Supplies (DMEPOS) Suppliers.” and published in the August 18, 2025 (90 FR 40073) Federal Register. The comment period for the information collection request, which would have ended on June 20, 2025, is extended to Monday, July 7, 2025.

DATES: The comment period for the information collection request published in the August 19, 2025, Federal Register (90 FR 40073) is extended to October 20, 2025.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number:___ Room C4-26-05, 7500 Security Boulevard, Baltimore, Maryland 21244-1850. To obtain copies of a supporting statement and any related forms for the proposed collection(s) summarized in this notice, please access the CMS PRA website by copying and pasting the following web address into your web browser: https://www.cms.gov/medicare/regulations-guidance/legislation/paperwork-reduction-act-1995/pra-listing .

FOR FURTHER INFORMATION CONTACT: William N. Parham at (410) 786-4669.

SUPPLEMENTARY INFORMATION: In the FR Doc. 2025-1561 of August 18, 2025 (90 FR 40073), we published a Paperwork Reduction Act notice requesting a 60-day public comment period for the document entitled “Medicare Enrollment Application: Durable Medical Equipment, Prosthetics, Orthotics, and Supplies (DMEPOS) Suppliers.” There were technical delays associated with making the information collection request publicly available; therefore, in this notice we are extending the comment period from the date originally listed in the October 20, 2025, notice.

William N. Parham, III,
Director, Division of Information Collections and Regulatory Impacts, Office of Strategic Operations and Regulatory Affairs.

[FR Doc. 2025-17202 Filed 9-5-25; 8:45 am]

BILLING CODE 4120-01-P